DEPARTMENT OF LABOR

Employment And Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 22, 2005.

Interested persons are invited to submit written comments regarding the subject matter of the investigations to the Director, Division of Trade Adjustment Assistance, at the address shown below, not later than August 22, 2005.

The petitions filed in this case are available for inspection at the Office of the Director, Division of Trade Adjustment Assistance, Employment and Training Administration, U.S. Department of Labor, Room C-5311, 200 Constitution Avenue, NW., Washington, DC 20210.

Signed in Washington, DC this 5th day of August, 2005.
Timothy Sullivan,
Director, Division of Trade Adjustment Assistance.

Appendix
[Petitions Instituted Between 07/19/2005 and 07/22/2005]
TA-W | Subject firm (petitioners) | Location | Date of institution | Date of petition
57,566 | Household Shangai Benefit Corporate (Wkrs) | Pomona, CA | 07/19/2005 | 07/14/2005
57,567 | Cequent Electrical Products (Comp) | Albion, IN | 07/19/2005 | 07/15/2005
57,568 | Sam Moore Furniture Industries (Wkrs) | Bedford, VA | 07/19/2005 | 07/15/2005
57,569 | Tescom Corp. (State) | Elk River, MN | 07/19/2005 | 07/15/2005
57,570 | Acme-McCrary Corporation (Comp) | Siler City, NC | 07/19/2005 | 07/18/2005
57,571 | Cap America, Inc. (Comp) | Fredericktown, MO | 07/19/2005 | 07/12/2005
57,572 | Internet Decatur Foundry (USWA) | Decatur, IL | 07/19/2005 | 07/18/2005
57,573 | Xio Tech (State) | Eden Prairie, MN | 07/19/2005 | 07/18/2005
57,574 | VF Jeanswear Limited Partnership (Comp) | Luray, VA | 07/19/2005 | 07/18/2005
57,575 | Milford Stitching Co., Inc. (State) | Milford, DE | 07/19/2005 | 07/18/2005
57,576 | Meke, Inc. (Comp) | New Holland, PA | 07/19/2005 | 07/17/2005
57,577 | U.S. Marine Bayline (State) | Pipestone, MN | 07/19/2005 | 07/19/2005
57,578 | Datacolor (State) | Lawrenceville, NJ | 07/19/2005 | 07/19/2005
57,579 | Acme Gear Co., Inc. (State) | Englewood, NJ | 07/19/2005 | 07/12/2005
57,580 | Gardco Lighting (State) | San Leandro, CA | 07/19/2005 | 07/06/2005
57,581 | L and L Leather, LLC (Wkrs) | Brownsville, TX | 07/19/2005 | 07/06/2005
57,582 | EPEC, LLC (Comp) | New Bedford, MA | 07/19/2005 | 07/15/2005
57,583 | Cooper Bussmann (Comp) | Black Mountain, NC | 07/19/2005 | 06/27/2005
57,584 | Credence System Corp. (State) | Simi Valley, CA | 07/19/2005 | 06/21/2005
57,585 | Delta Air Lines (Wkrs) | Atlanta, GA | 07/20/2005 | 07/01/2005
57,586 | Elberton Mfg. Co/ Rilla Inc. (UNITE) | Elberton, GA | 07/20/2005 | 06/23/2005
57,587 | WTTC, Inc (Comp) | El Paso, TX | 07/20/2005 | 07/19/2005
57,588 | Benchmark Electronics, Inc. (Wkrs) | Loveland, CO | 07/20/2005 | 07/19/2005
57,589 | Tennessee Warehouse and Distribution (Comp) | Morrison, TN | 07/20/2005 | 07/19/2005
57,590 | Mayflower Vehicle Systems (Wkrs) | So. Charleston, WV | 07/20/2005 | 07/11/2005
57,591 | United Wire Hanger Co., Inc. (IBT) | Hasbrouck Hgts, NJ | 07/20/2005 | 06/28/2005
57,592 | Anvil International Inc. (Wkrs) | Columbia, PA | 07/20/2005 | 07/14/2005
57,593 | Made in America, Inc. (Comp) | Waycross, GA | 07/20/2005 | 07/15/2005
57,594 | F and M Hat Co., Inc. (State) | Dallas, TX | 07/21/2005 | 07/18/2005
57,595 | Black Rock Trailers (Comp) | Shepherdsville, KY | 07/21/2005 | 07/20/2005
57,596 | Dorr-Oliver Fimco USA, Inc. (Comp) | Salt Lake City, UT | 07/21/2005 | 07/15/2005
57,597 | T.S. Manufacturing (State) | Atwater, CA | 07/21/2005 | 07/20/2005
57,598 | Tyco Electronics (State) | Waterbury, CT | 07/21/2005 | 07/20/2005
57,599 | International Mfg. (Wkrs) | El Paso, TX | 07/21/2005 | 07/20/2005
57,600 | Philips Consumer Electronics (NPC) | Knoxville, TN | 07/21/2005 | 07/11/2005
57,601 | Manner Dye and Finishing (UNITE) | Haledon, NJ | 07/21/2005 | 06/29/2005
57,602 | Renco Finishing Corporation (UNITE) | Fairlawn, NJ | 07/21/2005 | 06/29/2005
57,603 | Cordis Corp. (Comp) | Miami Lakes, FL | 07/21/2005 | 07/11/2005
57,604 | Gilbert Martin Woodworking Co. (Wkrs) | San Diego, CA | 07/22/2005 | 07/21/0005
57,605 | Ludlow Textiles Company, Inc. (Comp) | Ludlow, MA | 07/22/2005 | 07/21/2005
57,606 | International Paper (IAM) | Ft. Madison, IA | 07/22/2005 | 07/22/2005
57,607 | NCO Financial Systems, Inc. (NPC) | Hampton, VA | 07/22/2005 | 07/19/2005
57,608 | Accenture (State) | Houston, TX | 07/22/2005 | 07/22/2005
57,609 | Brunswick (State) | Muskegon, MI | 07/22/2005 | 07/14/2005
57,610 | Gerdau Ameristeel (USWA) | Beaumont, TX | 07/22/2005 | 07/06/2005
57,611 | Doane Pet Care (Wkrs) | Hillburn, NY | 07/22/2005 | 07/11/2005

[FR Doc. E5-4399 Filed 8-11-05; 8:45 am]

BILLING CODE 4510-30-P